ENVIRONMENTAL PROTECTION AGENCY

[FRL-10005-84-OP]

Notice of Public Guidance Portal

AGENCY: Environmental Protection Agency (EPA).

ACTION: Notice of availability.

SUMMARY: The Environmental Protection Agency (EPA) is announcing the availability of a web portal that allows the public to search for agency guidance documents. The purpose of this portal is to increase transparency of EPA guidance documents and to provide a mechanism for the public to request modification or withdrawal of such documents.

DATES: This web portal is available on or about February 28, 2020.

ADDRESSES: The web portal is available via the internet at https://epa.gov/guidance.

FOR FURTHER INFORMATION CONTACT: Mary Manibusan, Office of Policy (1803A), Environmental Protection Agency, 1200 Pennsylvania Ave NW, Washington, DC 20460; telephone number: (202) 564-7267; fax number: (202) 564-8601; email address: manibusan.mary@epa.gov.

SUPPLEMENTARY INFORMATION:

I. General Information

A. Background

On October 9, 2019, the President signed Executive Order (E.O.) 13891, “Promoting the Rule of Law Through Improved Agency Guidance Documents.” E.O. 13891 provides that agencies shall develop a central web portal for interested parties to review active guidance documents and provide a means for requesting their modification or withdrawal.

B. EPA Guidance Portal

Today's notice provides announcement of public access to the EPA Guidance Portal, allowing for the search of active guidance documents as defined under E.O. 13891. Guidance documents listed on the EPA Guidance Portal do not construe any obligations or binding requirements on regulated parties, nor threat of enforcement action if the regulated public does not comply. The EPA Guidance Portal comports with all statutory and Federal web policies. Information available about each guidance document listed on the EPA Guidance Portal includes:

• A concise name for the guidance document;

• The date on which the guidance document was issued;

• The date on which the guidance document was posted to the web portal

• An agency unique identifier;

• A hyperlink to the guidance document;

• The general topic addressed by the guidance document; and

• A summary of the guidance document's content.

EPA intends to augment its list of guidance documents on the EPA Guidance Portal as additional such documents become available that the agency may cite, use, or rely upon. Similarly, should EPA determine that a guidance document should be modified or withdrawn, these documents shall be updated or removed as appropriate.

Dated: February 21, 2020.
Andrew R. Wheeler,
Administrator.

[FR Doc. 2020-04034 Filed 2-27-20; 8:45 am]

BILLING CODE 6560-50-P